DEPARTMENT OF HOMELAND SECURITY

Federal Emergency Management Agency

[Docket ID FEMA-2017-0002]

Changes in Flood Hazard Determinations

AGENCY: Federal Emergency Management Agency, DHS.

ACTION: Final notice.

SUMMARY: New or modified Base(1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: May 2, 2017.
Roy E. Wright,
Deputy Associate Administrator for Insurance and Mitigation, Department of Homeland Security, Federal Emergency Management Agency.

State and county | Location and case No. | Chief executive officer of community | Community map repository | Effective date of modification | Community No.
Connecticut: Fairfield (FEMA Docket No.: B-1700) | Town of Greenwich (16-01-2255P) | The Honorable Peter Tesei, First Selectman, Town of Greenwich Board of Selectmen, 101 Field Point Road, Greenwich, CT 06830 | Planning and Zoning Department, 101 Field Point Road, Greenwich, CT 06830 | Mar. 22, 2017 | 090008
Florida:
Broward (FEMA Docket No.: B-1700) | City of Coconut Creek (16-04-7766P) | The Honorable Mikkie Belvedere, Mayor, City of Coconut Creek, 4800 West Copans Road, Coconut Creek, FL 33063 | City Hall, 5295 Johnson Road, Coconut Creek, FL 33073 | Mar. 24, 2017 | 120031
Broward (FEMA Docket No.: B-1700) | City of Coral Springs (16-04-7766P) | The Honorable Skip Campbell, Mayor, City of Coral Springs, 9551 West Sample Road, Coral Springs, FL 33065 | City Hall, 2730 University Drive, Coral Springs, FL 33065 | Mar. 24, 2017 | 120033
Broward (FEMA Docket No.: B-1672) | City of Deerfield Beach (16-04-5305P) | The Honorable Jean M. Robb, Mayor, City of Deerfield Beach, 150 Northeast 2nd Avenue, Deerfield Beach, FL 33441 | Environmental Services Department, 200 Goolsby Boulevard, Deerfield Beach, FL 33442 | Mar. 28, 2017 | 125101
Broward (FEMA Docket No.: B-1668) | City of Hallandale Beach (16-04-8271P) | The Honorable Joy Cooper, Mayor, City of Hallandale Beach, 400 South Federal Highway, Hallandale Beach, FL 33009 | Development Services Department, 400 South Federal Highway, Hallandale Beach, FL 33009 | Mar. 20, 2017 | 125110
Broward (FEMA Docket No.: B-1668) | City of Hollywood (16-04-8271P) | The Honorable Peter Bober, Mayor, City of Hollywood, P.O. Box 229045, Hollywood, FL 33022 | City Hall, 2600 Hollywood Boulevard, Hollywood, FL 33020 | Mar. 20, 2017 | 125113
Broward (FEMA Docket No.: B-1700) | City of Parkland (16-04-7766P) | The Honorable David Rosenof, Mayor, City of Parkland, 6600 University Drive, Parkland, FL 33067 | Building Division, 6600 University Drive, Parkland, FL 33067 | Mar. 24, 2017 | 120051
Broward (FEMA Docket No.: B-1668) | Unincorporated areas of Broward County (16-04-8271P) | The Honorable Marty Kiar, Mayor, Broward County Board of Commissioners, 115 South Andrews Avenue, Room 421, Fort Lauderdale, FL 33301 | Broward County Environmental Licensing and Building Permitting Division, 1 North University Drive, Plantation, FL 33324 | Mar. 20, 2017 | 125093
Escambia (FEMA Docket No.: B-1672) | Pensacola Beach-Santa Rosa Island Authority (16-04-6550P) | The Honorable Dave Pavlock, Chairman, Pensacola Beach-Santa Rosa Island Authority, P.O. Drawer 1208, Pensacola Beach, FL 32562 | Development Services Department, 1 Via De Luna Drive, Pensacola Beach, FL 32562 | Mar. 30, 2017 | 125138
Lee (FEMA Docket No.: B-1672) | Unincorporated areas of Lee County (16-04-4231P) | The Honorable Frank Mann, Chairman, Lee County Board of Commissioners, P.O. Box 398, Fort Myers, FL 33901 | Lee County Building Department, 1500 Monroe Street, Fort Myers, FL 33901 | Mar. 24, 2017 | 125124
Monroe (FEMA Docket No.: B-1672) | Unincorporated areas of Monroe County (16-04-8290P) | The Honorable Heather Carruthers, Mayor, Monroe County Board of Commissioners, 500 Whitehead Street, Suite 102, Key West, FL 33040 | Monroe County Building Department, 2798 Overseas Highway, Marathon, FL 33050 | Mar. 23, 2017 | 125129
Monroe (FEMA Docket No.: B-1672) | Unincorporated areas of Monroe County (16-04-8291P) | The Honorable Heather Carruthers, Mayor, Monroe County Board of Commissioners, 500 Whitehead Street, Suite 102, Key West, FL 33040 | Monroe County Building Department, 2798 Overseas Highway, Marathon, FL 33050 | Mar. 30, 2017 | 125129
Osceola (FEMA Docket No.: B-1672) | Unincorporated areas of Osceola County (16-04-3250P) | The Honorable Viviana Janer, Chair, Osceola County Board of Commissioners, 1 Courthouse Square, Suite 4700, Kissimmee, FL 34741 | Osceola County Community Development Department, 1 Courthouse Square, Suite 1100, Kissimmee, FL 34741 | Mar. 31, 2017 | 120189
Sarasota (FEMA Docket No.: B-1668) | Unincorporated areas of Sarasota County (16-04-4948P) | The Honorable Alan Maio, Chairman, Sarasota County Board of Commissioners, 1660 Ringling Boulevard, Sarasota, FL 34236 | Sarasota County Development Services Department, 1001 Sarasota Center Boulevard, Sarasota, FL 34240 | Mar. 20, 2017 | 125144
Georgia:
Columbia (FEMA Docket No.: B-1700) | City of Grovetown (16-04-7990P) | The Honorable Gary Jones, Mayor, City of Grovetown, P.O. Box 120, Grovetown, GA 30813 | Planning and Development Department, 103 Old Wrightsboro Road, Grovetown, GA 30813 | Mar. 16, 2017 | 130265
Columbia (FEMA Docket No.: B-1700) | Unincorporated areas of Columbia County (16-04-7990P) | The Honorable Ron C. Cross, Chairman, Columbia County Board of Commissioners, P.O. Box 498, Evans, GA 30809 | Columbia County Engineering Services Division, 630 Ronald Reagan Drive, Evans, GA 30809 | Mar. 16, 2017 | 130059
Forsyth (FEMA Docket No.: B-1672) | Unincorporated areas of Forsyth County (16-04-4934P) | Mr. Doug Derrer, Manager, Forsyth County, 110 East Main Street, Suite 210, Cumming, GA 30040 | Forsyth County Department of Engineering, 110 East Main Street, Suite 120, Cumming, GA 30040 | Mar. 9, 2017 | 130312
Maine: Hancock (FEMA Docket No.: B-1672) | Town of Gouldsboro (16-01-1304P) | The Honorable Dana Rice, Chairman, Town of Gouldsboro Board of Selectmen, 59 Main Street, Prospect Harbor, ME 04669 | Code Enforcement Office, 59 Main Street, Prospect Harbor, ME 04669 | Mar. 10, 2017 | 230283
Maryland: Worcester (FEMA Docket No.: B-1700) | Town of Ocean City (16-03-2683P) | Mr. Douglas R. Miller, Manager, Town of Ocean City, 301 Baltimore Avenue, Ocean City, MD 21842 | Department of Planning and Community Development, 301 Baltimore Avenue, Ocean City, MD 21842 | Mar. 24, 2017 | 245207
Massachusetts:
Norfolk (FEMA Docket No.: B-1668) | City of Quincy (16-01-2803P) | The Honorable Thomas P. Koch, Mayor, City of Quincy, 1305 Hancock Street, Quincy, MA 02169 | Department of Public Works, 55 Sea Street, Quincy, MA 02169 | Mar. 13, 2017 | 255219
Norfolk (FEMA Docket No.: B-1672) | Town of Cohasset (16-01-0636P) | Mr. Christopher Senior, Manager, Town of Cohasset, 41 Highland Avenue, Cohasset, MA 02025 | Town Hall, 41 Highland Avenue, Cohasset, MA 02025 | Mar. 21, 2017 | 250236
Norfolk (FEMA Docket No.: B-1672) | Town of Cohasset (16-01-2031P) | Mr. Christopher Senior, Manager, Town of Cohasset, 41 Highland Avenue, Cohasset, MA 02025 | Town Hall, 41 Highland Avenue, Cohasset, MA 02025 | Mar. 20, 2017 | 250236
Plymouth (FEMA Docket No.: B-1672) | Town of Marion (16-01-2499P) | The Honorable Jonathan E. Dickerson, Chairman, Town of Marion Board of Selectmen, 2 Spring Street, Marion, MA 02738 | Town Hall, 2 Spring Street, Marion, MA 02738 | Mar. 3, 2017 | 255213
New Mexico:
Bernalillo (FEMA Docket No.: B-1668) | City of Albuquerque (16-06-2885P) | The Honorable Richard J. Berry, Mayor, City of Albuquerque, P.O. Box 1293, Albuquerque, NM 87103 | Planning Development and Building Services Division, 600 2nd Street Northwest, Albuquerque, NM 87102 | Mar. 7, 2017 | 350002
Taos (FEMA Docket No.: B-1668) | Town of Taos (16-06-2418P) | The Honorable Daniel R. Barrone, Mayor, Town of Taos, 400 Camino De La Placita, Taos, NM 87571 | Planning, Zoning and Community Development Department, 400 Camino De La Placita, Taos, NM 87571 | Mar. 17, 2017 | 350002
Taos (FEMA Docket No.: B-1668) | Unincorporated areas of Taos County (16-06-2418P) | Mr. Leandro Cordova, Manager, Taos County, 105 Albright Street, Taos, NM 87571 | Taos County Planning Department, 105 Albright Street, Taos, NM 87571 | Mar. 17, 2017 | 350078
North Carolina:
Caswell (FEMA Docket No.: B-1672) | Unincorporated areas of Caswell County (16-04-3759P) | The Honorable Kenneth D. Travis, Chairman, Caswell County Board of Commissioners, P.O. Box 98, Yanceyville, NC 27379 | Caswell County Planning Department, 144 Main Street, Yanceyville, NC 27379 | Mar. 23, 2017 | 370300
Catawba (FEMA Docket No.: B-1672) | City of Hickory (16-04-3174P) | The Honorable Rudy Wright, Mayor, City of Hickory, 76 North Center Street, Hickory, NC 28601 | City Hall, 76 North Center Street, Hickory, NC 28601 | Feb. 1, 2017 | 370054
Edgecomb (FEMA Docket No.: B-1672) | Town of Tarboro (16-04-6123P) | The Honorable Taro Knight, Mayor Pro-Tem, Town of Tarboro, P.O. Box 220, Tarboro, NC 27886 | Planning and Inspections Department, 500 North Main Street, Tarboro, NC 27886 | Feb. 23, 2017 | 370094
Greene (FEMA Docket No.: B-1672) | Unincorporated areas of Greene County (16-04-3348P) | The Honorable Brad Fields, Chairman, Greene County Board of Commissioners, 229 Kingold Boulevard, Suite D, Snow Hill, NC 28580 | Greene County Department of Building Inspections, 104 Hines Street, Snow Hill, NC 28580 | Mar. 9, 2017 | 370378
Moore (FEMA Docket No.: B-1672) | Town of Carthage (16-04-5694P) | The Honorable Lee McGraw, Mayor, Town of Carthage, 4396 Highway 15-501 Carthage, NC 28327 | Town Hall, 4396 Highway 15-501, Carthage, NC 28327 | Apr. 6, 2017 | 370555
Moore (FEMA Docket No.: B-1672) | Unincorporated areas of Moore County (16-04-5694P) | The Honorable Catherine Graham, Chair, Moore County Board of Commissioners, P.O. Box 905, Carthage, NC 28327 | Moore County Planning and Transportation Department, P.O. Box 905, Carthage, NC 28327 | Apr. 6, 2017 | 370164
Union (FEMA Docket No.: B-1672) | Town of Weddington (16-04-1411P) | The Honorable Bill Deter, Mayor, Town of Weddington, 1924 Weddington Road, Weddington, NC 28104 | Town Hall, 1924 Weddington Road, Weddington, NC 28104 | Dec. 15, 2016 | 370518
Union (FEMA Docket No.: B-1672) | Unincorporated areas of Union County (16-04-1411P) | The Honorable Frank Aikmus, Chairman, Union County Board of Commissioners, 500 North Main Street, Room 921, Monroe, NC 28112 | Union County Office of Growth Management, Planning Division, 500 North Main Street, Monroe, NC 28112 | Dec. 15, 2016 | 370234
Oklahoma:
Canadian (FEMA Docket No.: B-1672) | City of Oklahoma City (16-06-1043P) | The Honorable Mick Cornett, Mayor, City of Oklahoma City, 200 North Walker Avenue, Oklahoma City, OK 73102 | Public Works Department, 420 West Main Street, Suite 700, Oklahoma City, OK 73102 | Mar. 30, 2017 | 405378
Canadian (FEMA Docket No.: B-1672) | City of Yukon (16-06-1043P) | The Honorable John Alberts, Mayor, City of Yukon, 1420 Spring Creek Drive, Yukon, OK 73099 | Development Services Department, 334 Elm Street, Yukon, OK 73099 | Mar. 30, 2017 | 400028
Pennsylvania:
Bucks (FEMA Docket No.: B-1672) | Borough of Morrisville (16-03-2671P) | Mr. Robert C. Sooby, Manager, Borough of Morrisville, 35 Union Street, Morrisville, PA 19067 | Borough Hall, 35 Union Street, Morrisville, PA 19067 | Mar. 22, 2017 | 420194
Bucks (FEMA Docket No.: B-1672) | Township of Falls (16-03-2671P) | The Honorable Robert Harvie, Chairman, Township of Falls Board of Supervisors, 188 Lincoln Highway, Suite 100, Fairless Hills, PA 19030 | Township Hall, 188 Lincoln Highway, Suite 100, Fairless Hills, PA 19030 | Mar. 22, 2017 | 420188
Lancaster (FEMA Docket No.: B-1668) | Township of Conestoga (16-03-2652P) | The Honorable Craig C. Eshleman, Chairman, Township of Conestoga Board of Supervisors, 3959 Main Street, Conestoga, PA 17516 | Township Municipal Building, 3959 Main Street, Conestoga, PA 17516 | Mar. 13, 2017 | 420544
Lancaster (FEMA Docket No.: B-1668) | Township of Drumore (16-03-2652P) | The Honorable Kolin D. McCauley, Chairman, Township of Drumore Board of Supervisors, 1675 Furniss Road, Drumore, PA 17518 | Township Municipal Building, 1675 Furniss Road, Drumore, PA 17518 | Mar. 13, 2017 | 421766
York (FEMA Docket No.: B-1672) | Township of Fairview (16-03-2653P) | The Honorable Larry Cox, Chairman, Township of Fairview Board of Supervisors, 599 Lewisberry Road, New Cumberland, PA 17070 | Township Municipal Building, 599 Lewisberry Road, New Cumberland, PA 17070 | Mar. 15, 2017 | 420923
York (FEMA Docket No.: B-1672) | Township of Newberry (16-03-2653P) | The Honorable Will Toothaker, Chairman, Township of Newberry Board of Supervisors, 1915 Old Trail Road, Etters, PA 17319 | Township Municipal Building, 1915 Old Trail Road, Etters, PA 17319 | Mar. 15, 2017 | 422226
South Dakota: Hughes (FEMA Docket No.: B-1668) | City of Pierre (16-08-0334P) | The Honorable Laurie Gill, Mayor, City of Pierre, 222 East Dakota Avenue, Pierre, SD 57501 | Department of Public Works, 222 East Dakota Avenue, Pierre, SD 57501 | Mar. 21, 2017 | 460040
Texas:
Bell (FEMA Docket No.: B-1672) | Unincorporated areas of Bell County (16-06-3508P) | The Honorable John Burrows, Bell County Judge, P.O. Box 768, Belton, TX 76513 | Bell County Engineering Department, 206 North Main Street, Belton, TX 76513 | Mar. 7, 2017 | 480706
Bell (FEMA Docket No.: B-1672) | Village of Salado (16-06-2289P) | The Honorable Skip Blancett, Mayor, Village of Salado, P.O. Box 219, Salado, TX 76571 | Village Hall, 301 North Stagecoach Road, Salado, TX 76571 | Mar. 24, 2017 | 480033
Bexar (FEMA Docket No.: B-1672) | City of San Antonio (16-06-3198P) | The Honorable Ivy R. Taylor, Mayor, City of San Antonio, P.O. Box 839966, San Antonio, TX 78283 | Transportation and Capital Improvements Department, Storm Water Division, 1901 South Alamo Street, 2nd Floor, San Antonio, TX 78284 | Mar. 20, 2017 | 480045
Bexar (FEMA Docket No.: B-1672) | Unincorporated areas of Bexar County (16-06-3198P) | The Honorable Nelson W. Wolff, Bexar County Judge, 101 West Nueva Street, 10th Floor, San Antonio, TX 78205 | Bexar County Public Works Department, 233 North Pecos-La Trinidad Street, Suite 420, San Antonio, TX 78204 | Mar. 20, 2017 | 480035
Collin (FEMA Docket No.: B-1668) | City of McKinney (16-06-1541P) | The Honorable Brian Loughmiller, Mayor, City of McKinney, P.O. Box 517, McKinney, TX 75070 | Engineering Department, 221 North Tennessee Street, McKinney, TX 75069 | Mar. 13, 2017 | 480135
Dallas (FEMA Docket No.: B-1672) | City of Dallas (16-06-2144P) | The Honorable Mike Rawlings, Mayor, City of Dallas, 1500 Marilla Street, Room 5EN, Dallas, TX 75201 | Engineering Department, 320 East Jefferson Boulevard, Room 200, Dallas, TX 75203 | Mar. 13, 2017 | 480171
Harris (FEMA Docket No.: B-1672) | City of Houston (16-06-1829P) | The Honorable Sylvester Turner, Mayor, City of Houston, P.O. Box 1562, Houston, TX 77251 | Floodplain Management Office, 1002 Washington Avenue, 3rd Floor, Houston, TX 77002 | Feb. 24, 2017 | 480296
Harris (FEMA Docket No.: B-1672) | Unincorporated areas of Harris County (16-06-2693P) | The Honorable Edward M. Emmett, Harris County Judge, 1001 Preston Street, Suite 911, Houston, TX 77002 | Harris County Permit Office, 10555 Northwest Freeway, Suite 120, Houston, TX 77092 | Mar. 3, 2017 | 480287
Johnson (FEMA Docket No.: B-1672) | City of Burleson (16-06-3257P) | The Honorable Ken Shetter, Mayor, City of Burleson, 141 West Renfro Street, Burleson, TX 76028 | City Hall, 141 West Renfro Street, Burleson, TX 76028 | Mar. 17, 2017 | 485459
Rockwall (FEMA Docket No.: B-1668) | City of Heath (16-06-1549P) | The Honorable Brian Berry, Mayor, City of Heath, 200 Laurence Drive, Heath, TX 75032 | City Hall, 200 Laurence Drive, Heath, TX 75032 | Mar. 13, 2017 | 480545
Tarrant (FEMA Docket No.: B-1700) | City of Keller (16-06-2056P) | The Honorable Mark Mathews, Mayor, City of Keller, P.O. Box 770, Keller, TX 76244 | Public Works Department, 1100 Bear Creek Parkway, Keller, TX 76248 | Mar. 31, 2017 | 480602
Tarrant (FEMA Docket No.: B-1672) | City of Keller (16-06-2452P) | The Honorable Mark Mathews, Mayor, City of Keller, P.O. Box 770, Keller, TX 76244 | Public Works Department, 1100 Bear Creek Parkway, Keller, TX 76248 | Mar. 16, 2017 | 480602
Travis (FEMA Docket No.: B-1672) | Unincorporated areas of Travis County (16-06-1784P) | The Honorable Sarah Eckhardt, Travis County Judge, 700 Lavaca Street, Austin, TX 78767 | Travis County Administration Building, 700 Lavaca Street, Austin, TX 78767 | Mar. 27, 2017 | 481026
Virginia:
Albemarle (FEMA Docket No.: B-1672) | Unincorporated areas of Albemarle County (16-03-1697P) | Mr. Thomas C. Foley, Albemarle County Executive, 401 McIntire Road, Charlottesville, VA 22902 | Albemarle County Community Development, Engineering Department, 401 McIntire Road, 2nd Floor, Charlottesville, VA 22902 | Mar. 22, 2017 | 510006
Independent City (FEMA Docket No.: B-1672) | City of Charlottesville (16-03-1697P) | Mr. Maurice Jones, Manager, City of Charlottesville, P.O. Box 911, Charlottesville, VA 22902 | Neighborhood Development Services, 610 East Market Street, Charlottesville, VA 22902 | Mar. 22, 2017 | 510033
Stafford (FEMA Docket No.: B-1672) | Unincorporated areas of Stafford County (16-03-2417P) | The Honorable Robert Thomas, Jr., Chairman, Stafford County Board of Supervisors, 1300 Courthouse Road, Stafford, VA 22554 | Stafford County Administration Center, 1300 Courthouse Road, Stafford, VA 22554 | Mar. 9, 2017 | 510154

[FR Doc. 2017-10194 Filed 5-18-17; 8:45 am]

BILLING CODE 9110-12-P